DEPARTMENT OF LABOR

Employment and Training Administration

[TA-W-57,746B]

Amended Certification Regarding Eligibility To Apply for Worker Adjustment Assistance and Alternative Trade Adjustment Assistance; Joan Fabrics Corporation Mastercraft Fabrics, LLC.; Oakland Plant Including Workers Who's Wages Were Paid By Accuforce Staffing Service; Spindale, NC

In accordance with Section 223 of the Trade Act of 1974 (19 U.S.C. 2273), and Section 246 of the Trade Act of 1074 (26 U.S.C. 2813), as amended, the Department of Labor issued a Certification of Eligibility to Apply for Worker Adjustment Assistance and Alternative Trade Adjustment Assistance on September 27, 2005, applicable to workers of Joan Fabrics Corporation, Mastercraft Fabrics, LLC., Oakland Plant, Spindale, North Carolina. The notice was published in the Federal Register on October 31, 2005 (70 FR 72347). The certification was previously amended on November 23, 2005 to correct the impact date. The notice was published in the Federal Register on December 8, 2005 (70 FR 73033)

At the request of a company official, the Department reviewed the certification for workers of the subject firm. The workers were engaged in the production of jacquard furniture fabric.

New information shows that following a change in ownership, some workers of the Oakland Plant, Spindale, North Carolina location of the subject firm will become employees of AccuForce Staffing Service. Workers separated from employment at the Oakland Plant, Spindale, North Carolina location of the subject firm had their wages reported under a separate unemployment insurance (UI) tax account for AccuForce Staffing Service.

Accordingly, the Department is amending the certification to properly reflect this matter.

The intent of the Department's certification is to include all workers of Joan Fabrics Corporation, Mastercraft Fabrics, LLC., Oakland Plant, including workers who's wages were paid by AccuForce Staffing Service, Spindale, North Carolina who were adversely affected by a shift in production to Mexico.

The amended notice applicable to TA-W-57,746B is hereby issued as follows:

“All workers of Joan Fabrics Corporation, Mastercraft Fabrics, LLC., Oakland Plant, including workers who's wages were paid by AccuForce Staffing Service, Spindale, North Carolina, who became totally or partially separated from employment on or after November 11, 2005, through September 27, 2007, are eligible to apply for adjustment assistance under section 223 of the Trade Act of 1974, and are also eligible to apply for alternative trade adjustment assistance under Section 246 of the Trade Act of 1974.”

Signed at Washington, DC, this 25th day of July. 2007.
Richard Church,
Certifying Officer, Division of Trade Adjustment Assistance.

[FR Doc. E7-14997 Filed 8-1-07; 8:45 am]

BILLING CODE 4510-FN-P